DEPARTMENT OF HOMELAND SECURITY

Federal Emergency Management Agency

[Docket ID FEMA-2019-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Colorado:
Arapahoe (FEMA Docket No.: B-1935). | City of Cherry Hills Village (19-08-0093P). | The Honorable Russell Stewart, Mayor, City of Cherry Hills Village, 2450 East Quincy Avenue, Cherry Hills Village, CO 80113. | Community Development Department, 2450 East Quincy Avenue, Cherry Hills Village, CO 80113. | Aug. 16, 2019 | 080013
El Paso (FEMA Docket No.: B-1948). | Town of Palmer Lake (18-08-1108P). | The Honorable John Cressman, Mayor, Town of Palmer Lake, P.O. Box 208, Palmer Lake, CO 80910. | Building Department, 2880 International Circle, Colorado Springs, CO 80910. | Sep. 11, 2019 | 080065
El Paso (FEMA Docket No.: B-1948). | Unincorporated areas of El Paso County (18-08-1108P). | The Honorable Mark Waller, Chairman, El Paso County Board of Commissioners, 200 South Cascade Avenue, Suite 100, Colorado Springs, CO 80903. | El Paso County Building Department, 2880 International Circle, Colorado Springs, CO 80910. | Sep. 11, 2019 | 080059
Florida:
Alachua (FEMA Docket No.: B-1931). | Unincorporated areas of Alachua County (19-04-0622P). | The Honorable Charles “Chuck” Chestnut, IV, Chairman, Alachua County Board of Commissioners, 12 Southeast 1st Street, Gainesville, FL 32601. | Alachua County Public Works Department, 5620 Northwest 120th Lane, Gainesville, FL 32653. | Aug. 21, 2019 | 120001
Monroe (FEMA Docket No.: B-1935). | City of Marathon (19-04-2110P). | The Honorable John Bartus, Mayor, City of Marathon, 9805 Overseas Highway, Marathon, FL 33050. | Planning Department, 9805 Overseas Highway, Marathon, FL 33050. | Aug. 22, 2019 | 120681
Monroe (FEMA Docket No.: B-1931). | Village of Islamorada (19-04-1674P). | The Honorable Deb Gillis, Mayor, Village of Islamorada, 86800 Overseas Highway, Islamorada, FL 33036. | Building Department, 86800 Overseas Highway, Islamorada, FL 33036. | Aug. 15, 2019 | 120424
Orange (FEMA Docket No.: B-1935). | City of Orlando (18-04-5643P). | The Honorable Buddy W. Dyer, Mayor, City of Orlando, P.O. Box 4990, Orlando, FL 32802. | Public Works Department, Engineering Division, 400 South Orange Avenue, 8th Floor, Orlando, FL 32801. | Aug. 27, 2019 | 120186
Osceola (FEMA Docket No.: B-1939). | City of St. Cloud (19-04-0673P). | The Honorable Nathan Blackwell, Mayor, City of St. Cloud, 1300 9th Street, St. Cloud, FL 34769. | Building Department, 1300 9th Street, St. Cloud, FL 34769. | Aug. 22, 2019 | 120191
Osceola (FEMA Docket No.: B-1939). | Unincorporated areas of Osceola County (19-04-0673P). | The Honorable Cheryl Grieb, Chair, Osceola County Board of Commissioners, 1 Courthouse Square, Suite 4700, Kissimmee, FL 34741. | Osceola County Development Review Department, 1 Courthouse Square, Suite 1400, Kissimmee, FL 34741. | Aug. 22, 2019 | 120189
Montana:
Fergus (FEMA Docket No.: B-1935). | City of Lewistown (18-08-1160P). | Ms. Holly Phelps, Manager, City of Lewistown, 305 West Watson Street, Suite 3, Lewistown, MT 59457. | Planning/Community Development Department, 305 West Watson Street, Suite 3, Lewistown, MT 59457. | Aug. 26, 2019 | 300022
Fergus (FEMA Docket No.: B-1935). | Unincorporated areas of Fergus County (18-08-1160P). | The Honorable Ross Butcher, Presiding Officer/Commissioner, Fergus County Board of Commissioners, 712 West Main Street, Suite 210, Lewistown, MT 59457. | Fergus County Planning Department, 712 West Main Street, Suite 101, Lewistown, MT 59457. | Aug. 26, 2019 | 300019
Madison (FEMA Docket No.: B-1931). | Town of Ennis (18-08-1265P). | The Honorable Blake Leavitt, Mayor, Town of Ennis, P.O. Box 147, Ennis, MT 59729. | Town Hall, 328 West Main Street, Ennis, MT 59729. | Aug. 16, 2019 | 300044
New Mexico:
Taos (FEMA Docket No.: B-1948). | Town of Taos (18-06-3973P). | The Honorable Daniel R. Barrone, Mayor, Town of Taos, 400 Camino De La Placita, Taos, NM 87571. | Department of Public Works, 400 Camino De La Placita, Taos, NM 87571. | Sep. 6, 2019 | 350080
Taos (FEMA Docket No.: B-1948). | Town of Taos (18-06-4061P). | The Honorable Daniel R. Barrone, Mayor, Town of Taos, 400 Camino De La Placita, Taos, NM 87571. | Department of Public Works, 400 Camino De La Placita, Taos, NM 87571. | Sep. 13, 2019 | 350080
Taos (FEMA Docket No.: B-1939). | Unincorporated areas of Taos County (19-06-0621P). | Mr. Brent Jaramillo, Manager, Taos County, 105 Albright Street, Suite G, Taos, NM 87571. | Taos County Planning Department, 105 Albright Street, Taos, NM 87571. | Aug. 30, 2019 | 350078
North Dakota:
McHenry (FEMA Docket No.: B-1935). | City of Velva (18-08-0850P). | The Honorable Jennifer Soli, Mayor, City of Velva, P.O. Box 219, Velva, ND 58790. | City Hall, 101 1st Street West, Velva, ND 58790. | Aug. 16, 2019 | 380051
McHenry (FEMA Docket No.: B-1935). | Township of Velva (18-08-0850P). | The Honorable James Hystad, Chairman, Township of Velva, 1920 47th Street North, Velva, ND 58790. | Township Hall, 4725 19th Avenue North, Velva, ND 58790. | Aug. 16, 2019 | 380310
Oklahoma:
Muskogee (FEMA Docket No.: B-1939). | Town of Porum (19-06-1205P). | The Honorable Carl Warren, Chairman, Town of Porum Council, P.O. Box 180, Porum, OK 74455. | City Hall, 105 South Arkansas Street, Porum, OK 74455. | Sep. 13, 2019 | 400127
Muskogee (FEMA Docket No.: B-1939). | Unincorporated areas of Muskogee County (19-06-1205P). | The Honorable Ken Doke, Commissioner, District 1 Muskogee County, 3000 North Street, Muskogee, OK 74403. | Muskogee County Emergency Management, Department, 3000 North Street, Muskogee, OK 74403. | Sep. 13, 2019 | 400491
South Carolina: Charleston (FEMA Docket No.: B-1931). | City of Isle of Palms (19-04-1752P). | The Honorable Jimmy Carroll, Mayor, City of Isle of Palms, 1207 Palm Boulevard, Isle of Palms, SC 29451. | Building and Planning Department, 1207 Palm Boulevard, Isle of Palms, SC 29451. | Aug. 21, 2019 | 455416
Tennessee: Sumner (FEMA Docket No.: B-1939). | City of Gallatin (18-04-7343P). | The Honorable Paige Brown, Mayor, City of Gallatin, 132 West Main Street, Gallatin, TN 37066. | Planning Department, 132 West Main Street, Gallatin, TN 37066. | Sep. 6, 2019 | 470185
Texas:
Bexar (FEMA Docket No.: B-1948). | City of San Antonio (18-06-2819P). | The Honorable Ron Nirenberg, Mayor, City of San Antonio, P.O. Box 839966, San Antonio, TX 78283. | Transportation and Capitol Improvements Department, Stormwater Division, 1901 South Alamo Street, 2nd Floor, San Antonio, TX 78204. | Sep. 3, 2019 | 480045
Bexar (FEMA Docket No.: B-1948). | City of San Antonio (18-06-2885P). | The Honorable Ron Nirenberg, Mayor, City of San Antonio, P.O. Box 839966, San Antonio, TX 78283. | Transportation and Capitol Improvements Department, Stormwater Division, 1901 South Alamo Street, 2nd Floor, San Antonio, TX 78204. | Sep. 9, 2019 | 480045
Bexar (FEMA Docket No.: B-1948). | Unincorporated areas of Bexar County (18-06-2819P). | The Honorable Nelson W. Wolff, Bexar County Judge, 101 West Nueva Street, 10th Floor, San Antonio, TX 78205. | Bexar County Public Works Department, 233 North Pecos-La Trinidad Street, Suite 420, San Antonio, TX 78207. | Sep. 3, 2019 | 480035
Collin (FEMA Docket No.: B-1939). | City of McKinney (18-06-2399P). | The Honorable George Fuller, Mayor, City of McKinney, P.O. Box 517, McKinney, TX 75070. | Engineering Department, 221 North Tennessee Street, McKinney, TX 75069. | Sep. 9, 2019 | 480135
Collin (FEMA Docket No.: B-1935). | City of Plano (18-06-3629P). | The Honorable Harry LaRosiliere, Mayor, City of Plano 1520 K Avenue, Suite 300, Plano, TX 75074. | Engineering Department, 1520 K Avenue, Suite 250, Plano, TX 75074. | Aug. 23, 2019 | 480140
Collin (FEMA Docket No.: B-1935). | City of Plano (18-06-3759P). | The Honorable Harry LaRosiliere, Mayor, City of Plano 1520 K Avenue, Suite 300, Plano, TX 75074. | Engineering Department, 1520 K Avenue, Suite 250, Plano, TX 75074. | Aug. 30, 2019 | 480140
Dallas (FEMA Docket No.: B-1939). | City of Rowlett (18-06-3684P). | Mr. Brian Funderburk, Manager, City of Rowlett, 4000 Main Street, Rowlett, TX 75088. | Community Development Department, 3901 Main Street, Rowlett, TX 75088. | Sep. 13, 2019 | 480185
Denton (FEMA Docket No.: B-1931). | City of Fort Worth (18-06-3549P). | The Honorable Betsy Price, Mayor, City of Fort Worth, 200 Texas Street, Fort Worth, TX 76102. | Transportation and Public Works Department, 200 Texas Street, Fort Worth, TX 76102. | Aug. 22, 2019 | 480596
Denton (FEMA Docket No.: B-1931). | City of Roanoke (18-06-3549P). | The Honorable Carl “Scooter” Gierisch, Jr., Mayor, City of Roanoke, 108 South Oak Street, Roanoke, TX 76262. | City Hall, 500 South Oak Street, Roanoke, TX 76262. | Aug. 22, 2019 | 480785
Denton (FEMA Docket No.: B-1931). | Town of Northlake (18-06-3549P). | The Honorable Peter Dewing, Mayor, Town of Northlake, 1500 Commons Circle, Suite 300, Northlake, TX 76226. | Public Works Department, 1400 FM 407, Northlake, TX 76247. | Aug. 22, 2019 | 480782
Denton (FEMA Docket No.: B-1931). | Town of Prosper (19-06-0890X). | The Honorable Ray Smith, Mayor, Town of Prosper, P.O. Box 307, Prosper, TX 75078. | Engineering Services Department, 409 East 1st Street, Prosper, TX 75078. | Aug. 22, 2019 | 480141
Kaufman (FEMA Docket No.: B-1935). | City of Forney (18-06-3890P). | Mr. Tony Carson, Manager, City of Forney, 101 East Main Street, Forney, TX 75126. | Engineering Department, 101 East Main Street, Forney, TX 75126. | Aug. 30, 2019 | 480410
Smith (FEMA Docket No.: B-1935). | City of Tyler (19-06-0647P). | The Honorable Martin Heines, Mayor, City of Tyler, P.O. Box 2039, Tyler, TX 75710. | Development Center, 423 West Ferguson Street, Tyler, TX 75710. | Sep. 3, 2019 | 480571
Tarrant (FEMA Docket No.: B-1948). | City of Fort Worth (18-06-3936P). | The Honorable Betsy Price, Mayor, City of Fort Worth, 200 Texas Street, Fort Worth, TX 76102. | Transportation and Public Works Department, 200 Texas Street, Fort Worth, TX 76102. | Sep. 6, 2019 | 480596
Tarrant (FEMA Docket No.: B-1935). | City of Grand Prairie (19-06-0321P). | The Honorable Ron Jensen, Mayor, City of Grand Prairie, P.O. Box 534045, Grand Prairie, TX 75053. | Development Center, 206 West Church Street, Grand Prairie, TX 75050. | Sep. 3, 2019 | 485472
Utah:
Carbon (FEMA Docket No.: B-1931). | City of Price (18-08-1056P). | The Honorable Michael Kourianos, Mayor, City of Price, 185 East Main Street, Price, UT 84501. | Public Works Department, 432 West 600 South, Price, UT 84501. | Aug. 15, 2019 | 490036

[FR Doc. 2019-21755 Filed 10-4-19; 8:45 am]

BILLING CODE 9110-12-P